INTERNATIONAL TRADE COMMISSION

[Investigation No. 731-TA-287 (Review)]

Raw In-Shell Pistachios From Iran

Determination

On the basis of the record ¹ developed in the subject five-year review, the United States International Trade Commission (Commission) determines, pursuant to section 751(c) of the Tariff Act of 1930 (19 U.S.C. 1675(c)) (the Act), that revocation of the antidumping duty order on raw in-shell pistachios from Iran would be likely to lead to continuation or recurrence of material injury to an industry in the United States within a reasonably foreseeable time.

¹ The record is defined in sec. 207.2(f) of the Commission's Rules of Practice and Procedure (19 CFR § 207.2(f)).

Background

The Commission instituted this review on March 1, 2005,² and determined on June 6, 2005, that it would conduct a full review.³ Notice of the scheduling of the Commission's review and of a public hearing to be held in connection therewith was given by posting copies of the notice in the Office of the Secretary, U.S. International Trade Commission, Washington, DC, and by publishing the notice in the Federal Register on June 30, 2005.⁴ The hearing was held in Washington, DC, on October 11, 2005, and all persons who requested the opportunity were permitted to appear in person or by counsel.

² 70 FR 9976.

³ 70 FR 35116, June 16, 2005 (Chairman Koplan, Commissioner Miller, and Commissioner Hillman dissenting).

⁴ 70 FR 37867.

The Commission transmitted its determination in this review to the Secretary of Commerce on December 15, 2005. The views of the Commission are contained in USITC Publication 3824 (December 2005), entitled Raw In-Shell Pistachios from Iran: Investigation No. 731-TA-287 (Review).

Issued: December 19, 2005.
By order of the Commission.
Marilyn R. Abbott,
Secretary to the Commission.

[FR Doc. E5-7719 Filed 12-21-05; 8:45 am]

BILLING CODE 7020-02-P